NUCLEAR REGULATORY COMMISSION

Sunshine Act Notice

DATES: Weeks of September 13, 20, 27, October 4, 11, 18, 2004.

Place: Commissioners' Conference Room, 11555 Rockville Pike, Rockville, Maryland.

Status: Public and Closed.

Matters To Be Considered:

Week of September 13, 2004

Tuesday, September 14, 2004

9:30 a.m. Discussion of Security Issues (Closed—Ex. 1)

Week of September 20, 2004—Tentative

There are no meetings scheduled for the Week of September 20, 2004.

Week of September 27, 2004—Tentative

There are no meetings scheduled for the Week of September 27, 2004.

Week of October 4, 2004—Tentative

Thursday, October 7, 2004

10:30 a.m. Discussion of Security Issues (Closed—Ex.1)

1 p.m. Discussion of Security Issues (Closed—Ex.1)

Week of October 11, 2004—Tentative

Wednesday, October 13, 2004

9:30 a.m. Briefing on Decommissioning Activities and Status (Public Meeting) (Contact: Claudia Craig, 301-415-7276)

This meeting will be webcast live at the Web address— http://www.nrc.gov.

1:30 p.m. Discussion of Intragovernmental Issues (Closed—Ex. 1 & 9)

Week of October 18, 2004—Tentative

There are no meetings scheduled for the Week of October 18, 2004.

*The schedule for Commission meetings is subject to change on short notice. To verify the status of meetings call (recording)—(301) 415-1292. Contact person for more information: Dave Gamberoni, (301) 415-1651.

* * * * *

The NRC Commission Meeting Schedule can be found on the Internet at: http://www.nrc.gov/what-we-do/policy-making/schedule.html.

* * * * *

The NRC provides reasonable accommodation to individuals with disabilities where appropriate. If you need a reasonable accommodation to participate in these public meetings, or need this meeting notice or the transcript of other information from the public meetings in another format (e.g., braille, large print), please notify the NRC's Disability Program Coordinator, August Spector, at 301-415-7080, TDD: 301-415-2100, or by e-mail at aks@nrc.gov. Determinations on requests for reasonable accommodation will be made on a case-by-case basis.

* * * * *

This notice is distributed by mail to several hundred subcribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: September 9, 2004.
R. Michelle Schroll,
Office of the Secretary.

[FR Doc. 04-20857 Filed 9-13-04; 10:07 am]

BILLING CODE 7590-01-M